DEPARTMENT OF COMMERCE

International Trade Administration

(A-570-851)

Certain Preserved Mushrooms From the People's Republic of China: Notice of Rescission of Antidumping Duty Administrative Review:

AGENCY: Import Administration, International Trade Administration, Department of Commerce.

SUMMARY: In response to a request from Fujian Yu Xing Fruit and Vegetable Foodstuff Development Co., Ltd. (Yu Xing), the U.S. Department of Commerce (the Department) initiated an administrative review of the antidumping duty order on certain preserved mushrooms from the People's Republic of China for the period February 1, 2008, through January 31, 2009. See Initiation of Antidumping and Countervailing Duty Administrative Reviews and Request for Revocation in Part, 74 19042 (April 27, 2009) (Initiation Notice). No other interested party requested an administrative review for this period. On July 24, 2009, Yu Xing withdrew its request for an administrative review. The withdrawal request was filed in a timely manner. Therefore, as discussed below, the Department is rescinding this administrative review.

EFFECTIVE DATE: August 14, 2009.

FOR FURTHER INFORMATION CONTACT: Tyler Weinhold or Robert James, AD/CVD Operations, Office 7, Import Administration, International Trade Administration, U.S. Department of Commerce, 14th Street and Constitution Avenue NW, Washington, DC 20230; telephone: (202) 482-1121 or (202) 482-0649 respectively.

SUPPLEMENTARY INFORMATION:

Background

On February 4, 2009, the Department published in the Federal Register its notice of opportunity to request an administrative review of the antidumping duty order on certain preserved mushrooms from the People's Republic of China (PRC). See Antidumping or Countervailing Duty Order, Finding, or Suspended Investigation; Opportunity to Request Administrative Review, 74 FR 6013 (February 4, 2009). On March 2, 2009, Yu Xing requested an administrative review in accordance with 19 CFR 351.213(b)(1). No other interested party requested an administrative review for this period.

On April 27, 2009, the Department published in the Federal Register a notice of the initiation of the antidumping duty administrative review of certain preserved mushrooms from the PRC for the period February 1, 2008, through January 31, 2009, with respect to Yu Xing. See Initiation Notice.

Yu Xing filed its section A response on June 2, 2009 and its section C and D responses on June 16, 2009. On July 24, 2009, pursuant to 19 CFR 351.213(d)(1), Yu Xing withdrew its requests for an administrative review.

Rescission of Administrative Review

Section 351.213(d)(1) of the Department's regulations provide that the Department will rescind an administrative review if the party that requested the review withdraws its request for review within 90 days of the date of publication of the notice of initiation of the requested review, or withdraws at a later date if the Department determines that it is reasonable to extend the time limit for withdrawing the request. The Department initiated the administrative review of the antidumping duty order on April 27, 2009. Yu Xing withdrew its request for an administrative review on July 24, 2009. The withdrawal was timely filed and as the rescission was requested within 90 days of the publication of the initiation of the administrative review. See 19 CFR 351.213(d)(1). Accordingly, the Department is rescinding this administrative review. Yu Xing has a separate rate, and we intend to issue liquidation instructions for Yu Xing 15 days after publication of this notice.

Notification to Importers

This notice serves as a reminder to importers of their responsibility under section 351.402(f) of the Department's regulations to file a certificate regarding the reimbursement of antidumping duties prior to liquidation of the relevant entries during this review period. Failure to comply with this requirement could result in the secretary's assumption that reimbursement of antidumping duties occurred and subsequent assessment of double antidumping duties.

Notification Regarding APO's

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.This notice is issued and published in accordance with section 777(i)(1) of the Tariff Act of 1930, as amended, and 19 CFR 351.213(d)(4).

Dated: August 10, 2009.
John M. Andersen,
Acting Deputy Assistant Secretary for Antidumping and Countervailing Duty Operations.

[FR Doc. E9-19561 Filed 8-13-09; 8:45 am]

BILLING CODE 3510-DS-S